DEPARTMENT OF ENERGY

Federal Energy Regulatory Commission

[Project No. 2466-037]

Appalachian Power Company; Notice of Waiver Period for Water Quality Certification Application

On April 5, 2023, Appalachian Power Company submitted to the Federal Energy Regulatory Commission (Commission) a copy of its application for a Clean Water Act section 401(a)(1) water quality certification filed with the Virginia Department of Environmental Quality (Virginia DEQ), in conjunction with the above captioned project. Pursuant to 40 CFR 121.6 and section 5.23(b) of the Commission's regulations,¹ we hereby notify Virginia DEQ of the following:

¹ 18 CFR 5.23(b).

Date of Receipt of the Certification Request: April 4, 2023.

Reasonable Period of Time to Act on the Certification Request: One year (April 4, 2024).

If Virginia DEQ fails or refuses to act on the water quality certification request on or before the above date, then the agency certifying authority is deemed waived pursuant to section 401(a)(1) of the Clean Water Act, 33 U.S.C. 1341(a)(1).

Dated: April 12, 2023.
Kimberly D. Bose,
Secretary.

[FR Doc. 2023-08165 Filed 4-17-23; 8:45 am]

BILLING CODE 6717-01-P